ENVIRONMENTAL PROTECTION AGENCY

[ER-FRL-9043-6]

Environmental Impact Statements; Notice of Availability

Responsible Agency: Office of Federal Activities, General Information 202-564-5632 or https://www.epa.gov/nepa/.

Weekly receipt of Environmental Impact Statements

Filed 02/18/2019 Through 02/22/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190017, Final, GSA, CA, Otay Mesa Land Port of Entry Modernization and Expansion, Review Period Ends: 04/01/2019, Contact: Osmahn Kadri 415-522-3617.

EIS No. 20190018, Draft, USACE, AK, Pebble Mine, Comment Period Ends: 05/31/2019, Contact: Shane McCoy 907-753-2715.

EIS No. 20190020, Final, USFS, CA, Exchequer Restoration Project, Review Period Ends: 04/01/2019, Contact: Elaine Locke 559-855-5355.

Amended Notices

EIS No. 20180284, Draft Supplement, USFS, MT, Stonewall Vegetation Project, Comment Period Ends: 03/25/2019, Contact: Laura Conway 406-791-7739, Revision to FR Notice Published 11/30/2018; Extending the Comment Period from 01/14/2019 to 03/25/2019.

Dated: February 26, 2019.
Robert Tomiak,
Director, Office of Federal Activities.

[FR Doc. 2019-03656 Filed 2-28-19; 8:45 am]

BILLING CODE 6560-50-P